DEPARTMENT OF ENERGY

Federal Energy Regulatory Commission

[Docket No. ER02-1656-000]

California Independent System Operator Corporation; Notice Announcing Electronic Service

April 3, 2006.

Take notice that the Federal Energy Regulatory Commission is establishing electronic service (eService) for the above-captioned docket. In Order No. 653, the Commission revised its regulations to, among other things, provide that service of documents by the Secretary of the Commission shall be by electronic means, unless such means are impractical, and also to foster the use of electronic methods of service among parties on service lists in all proceedings. Moreover, for proceedings initiated on or after March 21, 2005, Order No. 653 required that any person or entity requesting inclusion on a service list must comply with all procedures for eService. Electronic Notification of Commission Issuances, 110 FERC ¶ 61, 110 (2005), order on reh'g, 111 FERC ¶ 61,021 (2005); see also Notice That The Commission Secretary Will End Duplicate Paper Service of Commission Issuances, Docket No. RM04-9-000 (June 17, 2005).

Participants in the above-captioned proceeding have expressed to Commission staff an interest in electronic service. Accordingly, to facilitate the electronic service of filings among participants in this proceeding, the Commission will establish eService for this docket effective May 8, 2006.

To participate in eService for this proceeding, participants must follow the instructions set out in the attachment to this Notice and submit the information requested by April 17, 2006. Participation in eService for this proceeding is not mandatory, but participants are encouraged to take advantage of this opportunity to serve and receive service of documents in a prompt and cost-effective manner.

Magalie R. Salas,
Secretary.

Attachment—Use of Eservice for ER02-1656-000

Participants who will use eService in this proceeding must meet the following two requirements by April 17, 2006.

1. eRegister using FERC Online (the following link may be used http://www.ferc.gov/docs-filing/eregistration.asp).

2. Send an e-Mail to ER02-1656-eService@ferc.gov that includes the following information:

a. The e-Mail subject line ‘ER02-1656-eService.'

b. In the e-Mail body, include the e-Mail address with which the participant eRegistered with FERC Online and the name of the organization on whose behalf they previously intervened in the proceeding.

On May 8, 2006, the Commission will issue a notice announcing the establishment of the WebService list for ER02-1656-000 based on the information received by participants in this proceeding. Thereafter, a participant serving a document by e-mail should:

1. Retrieve and download the Web Service List for ER02-1656-000 using the participant's eRegistered FERC Online e-mail address and password (the following link may be used http://www.ferc.gov/docs-filing/eservice.asp). The participant can specify the type of e-mail address as ‘E-mail' and use the ‘Download List' function on the Web Service List page.

2. After opening the saved list using any text editor, the participant may copy the downloaded list to their clipboard, paste it into the 'To:' line of the e-mail editor and enter an appropriate subject and e-mail body. To avoid e-mail delivery problems to companies who bar attachments or limit attachment size, a participant using eService should include in the e-mail body the link to the document in the FERC eLibrary system. The participant will receive this link to the document by email from the FERC eFiling system when the particular document is accepted for filing by FERC.

For more information about eService, eRegistration, or eFiling contact ferconlinesupport@ferc.gov or call 866-208-3676 and include a current telephone number and e-mail address.

[FR Doc. E6-5288 Filed 4-10-06; 8:45 am]

BILLING CODE 6717-01-P